NUCLEAR REGULATORY COMMISSION

10 CFR Part 51

[NRC-2012-0246]

RIN 3150-AJ20

Draft Waste Confidence Generic Environmental Impact Statement

AGENCY: Nuclear Regulatory Commission.

ACTION: Draft generic environmental impact statement; public meetings and request for comment.

SUMMARY: The U.S. Nuclear Regulatory Commission (NRC) is issuing for public comment the draft generic environmental impact statement (DGEIS), NUREG-2157, “Waste Confidence Generic Environmental Impact Statement,” that forms the regulatory basis for the proposed amendments to the NRC's regulations pertaining to the environmental impacts of the continued storage of spent nuclear fuel beyond a reactor's licensed life for operation and prior to ultimate disposal (proposed Waste Confidence rule). The NRC staff plans to hold 12 public meetings during the public comment period to present an overview of the DGEIS and proposed Waste Confidence rule and to accept public comments on the documents.

DATES: Submit comments on the DGEIS by November 27, 2013. Comments received after this date will be considered if it is practical to do so, but the NRC is able to assure consideration only for comments received on or before this date.

ADDRESSES: You may submit comments by any of the following methods (unless this document describes a different method for submitting comments on a specific subject):

• Federal Rulemaking Web site: Go to http://www.regulations.gov and search for Docket ID NRC-2012-0246. Address questions about NRC dockets to Carol Gallagher; telephone: 301-287-3422; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on accessing information and submitting comments, see “Accessing Information and Submitting Comments” in the SUPPLEMENTARY INFORMATION section of this document.

FOR FURTHER INFORMATION CONTACT: Sarah Lopas, Office of Nuclear Material Safety and Safeguards, U.S. Nuclear Regulatory Commission, Washington, DC 20555-0001; telephone: 301-287-0675; email: Sarah.Lopas@nrc.gov.

SUPPLEMENTARY INFORMATION:

I. Accessing Information and Submitting Comments

A. Accessing Information

Please refer to Docket ID NRC-2012-0246 when contacting the NRC about the availability of information for this document. You may access publicly available information related to this document by any of the following methods:

• Federal Rulemaking Web site: Go to http://www.regulations.gov and search for Docket ID NRC-2012-0246.

• NRC's Waste Confidence Web site: Go to http://www.nrc.gov/waste/spent-fuel-storage/wcd.html.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's PDR reference staff at 1-800-397-4209, 301-415-4737, or by email to pdr.resource@nrc.gov. The ADAMS accession number for each document referenced in this document (if that document is available in ADAMS) is provided the first time that a document is referenced. The DGEIS is available in ADAMS under Accession No. ML13224A106.

• NRC's PDR: You may examine and purchase copies of public documents at the NRC's PDR, Room O1-F21, One White Flint North, 11555 Rockville Pike, Rockville, Maryland 20852.

B. Submitting Comments

Please include Docket ID NRC-2012-0246 in the subject line of your comment submission in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

In response to a ruling by the Court of Appeals for the District of Columbia Circuit, (New York v. NRC, 681 F.3d 471), that vacated the NRC's Waste Confidence rule (10 CFR 51.23), the Commission directed the NRC staff to develop an updated Waste Confidence rule supported by a generic Environmental Impact Statement. As the first step in developing the DGEIS, the NRC conducted a scoping process from October 25, 2012 through January 2, 2013 (77 FR 65137). Results of that scoping process are documented in the “Waste Confidence Generic Environmental Impact Statement Scoping Process Summary Report,” dated March 2013 (ADAMS Accession No. ML13060A128).

The NRC prepared the DGEIS to satisfy its National Environmental Policy Act (NEPA) obligations regarding the impacts of continued storage of spent nuclear fuel after the end of a reactor's licensed life for operation and to support proposed amendments to the Waste Confidence rule. The objective of the Waste Confidence DGEIS is to examine the potential environmental impacts that could occur as a result of the continued storage of spent nuclear fuel at at-reactor and away-from-reactor sites until a repository is available. For the resource areas considered, the DGEIS provides generic impact determinations that would be applicable to a wide range of existing and potential future spent fuel storage sites. While some site-specific information is used in developing the generic impact determinations, the Waste Confidence DGEIS does not replace the NEPA analysis associated with any individual site licensing action.

The DGEIS is intended to improve the efficiency of the NRC's licensing processes by (1) providing a generic evaluation of the environmental impacts that may occur as a result of continuing to store spent fuel after the end of a reactor's licensed life for operation and prior to disposal in a repository, and (2) providing the regulatory basis for the NRC's proposed amendments to its regulations in part 51 of Title 10 of the Code of Federal Regulations.

Concurrently with this document, the NRC is publishing a proposed rule, “Waste Confidence—Continued Storage of Spent Nuclear Fuel” (RIN 3150-AJ20; NRC-2012-0246), in the Proposed Rules section of this issue of the Federal Register. The proposed rule would revise the NRC's generic determination on the environmental impacts of the continued storage of spent nuclear fuel beyond a reactor's licensed life for operation and prior to ultimate disposal.

III. Public Meetings

The NRC staff plans to hold the following public meetings during the public comment period to present an overview of the DGEIS and proposed Waste Confidence rule and to accept public comments on the documents.

• October 1, 2013: NRC Headquarters, One White Flint North, First Floor Commission Hearing Room, 11555 Rockville Pike, Maryland 20852.

• October 3, 2013: Crowne Plaza Denver International Airport Convention Center, 15500 East 40th Avenue, Denver, Colorado 80239.

• October 7, 2013: Courtyard by Marriott, 1605 Calle Joaquin Road, San Luis Obispo, California 93405.

• October 9, 2013: Sheraton Carlsbad Resort & Spa, 5480 Grand Pacific Drive, Carlsbad, California 92008.

• October 15, 2013: Hilton Garden Inn Toledo Perrysburg, 6165 Levis Commons Boulevard, Perrysburg, Ohio 43551.

• October 17, 2013: Minneapolis Marriott Southwest, 5801 Opus Parkway, Minnetonka, Minnesota 55343.

• October 28, 2013: Radisson Hotel & Suites Chelmsford-Lowell, 10 Independence Drive, Chelmsford, Massachusetts 01824.

• October 30, 2013: Westchester Marriott, 670 White Plains Road, Tarrytown, New York 10591.

• November 4, 2013: Hilton Charlotte University Place, 8629 J.M. Keynes Drive, Charlotte, North Carolina 28262.

• November 6, 2013: Hyatt Regency Orlando International Airport, 9300 Jeff Fuqua Boulevard, Orlando, Florida 32827.

• November 14, 2013: NRC Headquarters, One White Flint North, First Floor Commission Hearing Room, 11555 Rockville Pike, Maryland 20852.

• In addition to the meetings listed, the NRC staff intends to hold a meeting during the comment period in Illinois. Although the exact date and venue have yet to be arranged, the NRC staff will provide this information well in advance of the meeting.

The ten regional public meetings will start at 7:00 p.m. local time and will continue until 10:00 p.m. The two NRC headquarters meetings will start at 2:00 p.m. Eastern Time and will continue until 5:00 p.m. Additionally, NRC staff will host informal discussions during an open house 1 hour prior to the start of each meeting. Open houses will start at 6:00 p.m. local time for regional meetings and 1:00 p.m. Eastern Time for the NRC Headquarters meetings.

The public meetings will be transcribed and will include: (1) A presentation of the contents of the DGEIS and proposed Waste Confidence rule; and (2) the opportunity for interested government agencies, organizations, and individuals to provide comments on the DGEIS and proposed rule. No oral comments on the DGEIS or proposed rule will be accepted during the open house sessions. To be considered, oral comments must be presented during the transcribed portion of the public meeting. Written comments can be submitted to NRC staff at any time during the public meetings.

Persons interested in attending or presenting oral comments at any of the 12 public meetings are encouraged to pre-register. Persons may pre-register to attend or present oral comments by calling 301-287-9392 or by emailing WCRegistration@nrc.gov no later than 3 days prior to the meeting. Members of the public may also register to provide oral comments in-person at each meeting. Individual oral comments may be limited by the time available, depending on the number of persons who register. If special equipment or accommodations are needed to attend or present information at a public meeting, the need should be brought to the NRC's attention no later than 10 days prior to the meeting to provide the NRC staff adequate notice to determine whether the request can be accommodated.

To maximize public participation, the NRC headquarters meetings on October 1, 2013, and November 14, 2013, will be Web-streamed via the NRC's public Web site. See the NRC's Live Meeting Webcast page to participate: http://video.nrc.gov/. The NRC headquarters meetings will also feature a moderated teleconference line so remote attendees will have the opportunity to present oral comments. To receive the teleconference number and passcode, call 301-287-9392 or email WCRegistration@nrc.gov. Meeting agendas and participation details will be available on the NRC's Waste Confidence Public Involvement Web site at http://www.nrc.gov/waste/spent-fuel-storage/wcd/pub-involve.html and on the NRC's Public Meeting Schedule Web site at http://www.nrc.gov/public-involve/public-meetings/index.cfm no later than 10 days prior to the meetings.

Dated at Rockville, Maryland, this 30th day of August 2013.
For the Nuclear Regulatory Commission.
Keith I. McConnell,
Director, Waste Confidence Directorate, Office of Nuclear Material Safety and Safeguards.

[FR Doc. 2013-21715 Filed 9-12-13; 8:45 am]

BILLING CODE 7590-01-P